DEPARTMENT OF ENERGY

Agency Information Collection Extension

AGENCY: U.S. Department of Energy.

ACTION: Notice and request for comments.

SUMMARY: The Department of Energy (DOE), pursuant to the Paperwork Reduction Act of 1995, intends to extend for three years, an information collection package with the Office of Management and Budget (OMB) concerning collection of human resource information from major DOE contractors for contract management administration, and cost control. Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before March 7, 2005. If you anticipate in submitting comments within that period, contact the person listed below as soon as possible.

ADDRESSES: Written comments may be sent to: Stephanie Weakley, U.S. Department of Energy, 1000 Independence Ave., SW., Washington, DC 10585-1290, or by fax at 202/287-1656 or by e-mail at stephanie.weakley@hq.doe.gov; and to: Sharon Evelin, Acting Director, IM-11/Germantown Bldg., U.S. Department of Energy, 1000 Independence Ave., SW., Washington, DC 28505-1290, or by fax at 301-903-9061 or by e-mail at SharonEvelin@hq.doe.gov.

FOR FURTHER INFORMATION CONTACT: Requests for additional information or copies of the information collection instrument and instructions should be directed to Stephanie Weakley at the address listed in ADDRESSES.

SUPPLEMENTARY INFORMATION: This package contains: (1) OMB No. 1910-0100; (2) Package Title: Printing and Publishing Activities; (3) Type of Review: Renewal; (4) Purpose: This information is required for management oversight for DOE's Facilities Management Contractors and to ensure that the programmatic and administrative management requirements of the contract are managed efficiently and effectively; (5) Respondents: 307; (6) Estimated Number of Burden Hours: 7183.

Statutory Authority: Department of Energy Organization Act (Pub. L. 9591 of Aug. 4, 1977, 42 U.S.C. 7254).

Issued in Washington, DC on December 27, 2004.
Sharon Evelin,
Acting Director, Records Management Division, Office of the Chief Information Officer.

[FR Doc. 05-187 Filed 1-4-05; 8:45 am]

BILLING CODE 6450-01-P